DEPARTMENT OF TRANSPORTATION

Federal Aviation Administration

[Summary Notice No. PE-2000-11]

Petitions for Exemption; Summary of Petitions Received; Dispositions of Petitions Issued

AGENCY: Federal Aviation Administration (FAA), DOT.

ACTION: Notice of petitions for exemptions received and of dispositions of prior petitions.

SUMMARY: Pursuant to FAA's rulemaking provisions governing the application, processing, and disposition of petitions for exemption (14 CFR part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 11, 2000.

ADDRESSES: Send comments on any petition in triplicate to: Federal Aviation Administration, Office of the Chief Counsel, Attn: Rule Docket (AGC-200), Petition Docket No. __, 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR part 11).

Issued in Washington, D.C., on March 16, 2000.
Donald P. Byrne,
Assistant Chief Counsel for Regulations.

Petitions for Exemption

Docket No.: 29806.

Petitioner: Hawaiian Airlines, Inc.

Section of the FAR Affected: 14 CFR 47.49 and 91.203.

Description of Relief Sought: To permit Hawaiian to temporarily operate U.S.-registered aircraft to, from, and among the Hawaiian Islands without the registration or airworthiness certificates onboard.

Dispositions of Petitions

Docket No.: 29489.

Petitioner: Airline Training Center Arizona, Inc.

Section of the FAR Affected: 14 CFR 61.109(a)(2).

Description of Relief Sought/Disposition: To permit certain students of ATCA to obtain a private pilot certificate with an airplane category and single-engine class rating without accomplishing the night flight-training requirements of § 61.109(a)(2). These students would be issued private pilot certificates with night-flying limitations.

DENIAL, 12/22/99, Exemption No. 7100

Docket No.: 29850.

Petitioner: New WorldAir Holdings, Inc.

Section of the FAR Affected: 14 CFR 135.143(c)(2).

Description of Relief Sought/Disposition: To permit New World to operate its Falcon 20 (Registration No. N164NW, Serial No. 164) under part 135 without a TSO-C112 (Mode S) transponder installed in the aircraft.

GRANT, 1/11/00, Exemption No. 7101

Docket No.: 26012.

Petitioner: Federal Express Corporation.

Section of the FAR Affected: 14 CFR 121.583(a).

Description of Relief Sought/Disposition: To permit Federal Express to transport medical personnel assigned to Project Orbis without complying with all the passenger-carrying requirements in §§ 121.291, 121.309(f), 121.310, and 121.391.

GRANT, 1/31/00, Exemption No. 5129E

Docket No.: 27118.

Petitioner: Air Logistics, L.L.C.

Section of the FAR Affected: 14 CFR 135.143(c)(2).

Description of Relief Sought/Disposition: To permit ALG to operate under the provisions of part 135 without having a TSO-C112 (Mode S) transponder installed in its aircraft.

GRANT, 1/18/00, Exemption No. 6736A

Docket No.: 29821.

Petitioner: IHC Health Services, Inc.

Section of the FAR Affected: 14 CFR 135.299(a).

Description of Relief Sought/Disposition: To permit IHC pilots to accomplish a line operational evaluation in a Level C or Level D flight simulator in lieu of a line check in an aircraft.

DENIAL, 2/3/00, Exemption No. 7110

Docket No.: 29184.

Petitioner: Arctic Air Service, Inc.

Section of the FAR Affected: 14 CFR 135.152(a).

Description of Relief Sought/Disposition: To permit Arctic Air to operate its Sikorsky S-76A helicopter (Registration No. N347AA, Serial No. 760006) without an approved digital flight data recorder installed on the helicopter.

GRANT, 1/31/00, Exemption No. 6854A

Docket No.: 29800.

Petitioner: Associated Air Center.

Section of the FAR Affected: 14 CFR 25.813(e).

Description of Relief Sought/Disposition: To allow Associated Air Center to install interior doors between passenger compartments on Boeing Model 757-23A airplane s/n 24923 and Boeing Model 757-2J4 airplane s/n 25155.

PARTIAL GRANT, 1/25/00, Exemption No. 7107

Docket No.: 29583.

Petitioner: Dassault Aviation.

Section of the FAR Affected: 14 CFR 25.785(a).

Description of Relief Sought/Disposition: To exempt Dassault Aviation from the requirements of § 25.785(a) Amendment 25-64, for the general occupant protection requirements for occupants of multiple place side-facing seats that are occupied during takeoff and landing for Falcon 2000 airplanes manufactured prior to January 1, 2004.

PARTIAL GRANT, 1/18/00, Exemption No. 7104

[FR Doc. 00-7002 Filed 3-20-00; 8:45 am]

BILLING CODE 4910-13-M